ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, January 13-15, 2014 at the times and location listed below.

DATES: The schedule of events is as follows:

Monday, January 13, 2014

10:15 a.m.-Noon Ad Hoc Committee Meetings: Closed to Public.

1:30-2:30 p.m. Information Meeting on Medical Diagnostic Equipment.

2:30-5:00 Ad Hoc Committee Meetings: Closed to Public.

Tuesday, January 14, 2014

9:30-11:00 a.m. Ad Hoc Committee on Frontier Issues.

11:00-Noon Planning and Evaluation Committee.

1:30-2:00 p.m. Technical Programs Committee.

2:00-3:00 Budget Committee.

3:00-4:30 Ad Hoc Committee: Closed to Public.

Wednesday, January 15, 2014

9:30 a.m.-Noon Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the morning of Wednesday, January 15, 2014 the Access Board will consider the following agenda items:

• Approval of the draft September 11, 2013 meeting minutes (vote)

• Ad Hoc Committee Reports: Self-Service Transaction Machines; Information and Communications Technologies; Classroom Acoustics; Emergency Transportable Housing; Passenger Vessels; Medical Diagnostic Equipment; Accessible Design in Education; Public Rights-of-Way and Shared Use Paths; Frontier Issues; and Transportation Vehicles

• Planning and Evaluation Committee

• Technical Programs Committee

• Budget Committee

• Election Assistance Commission Report

• ADA and ABA Guidelines; Federal Agency Update

• Executive Director's Report

• Public Comment, Open Topics

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/the-board/policies/fragrance-free-environment for more information).

David M. Capozzi,
Executive Director.

[FR Doc. 2013-29853 Filed 12-13-13; 8:45 am]

BILLING CODE 8150-01-P